NUCLEAR REGULATORY COMMISSION

[Docket Nos. 50-438 and 50-439; NRC-2009-0093]

In the Matter of Tennessee Valley Authority (Bellefonte Nuclear Plant Units 1 and 2); Order

The U.S. Atomic Energy Commission (predecessor to the U.S. Nuclear Regulatory Commission (NRC or the Commission)) issued construction permit (CP) Nos. CPPR-122 and CPPR-123 to the Tennessee Valley Authority (TVA or the applicant) on December 24, 1974, authorizing construction of the Bellefonte Nuclear Plant (Bellefonte or BLN) Units 1 and 2, respectively, at the applicant's site in Jackson County, AL, on a peninsula at Tennessee River Mile 392 on the west shore of Guntersville Reservoir, about 6 miles east northeast of Scottsboro, AL. On March 4, 2003, the NRC issued an Order amending CP Nos. CPPR-122 and CPPR-123 by revising the latest dates for completion of construction to October 1, 2011, for BLN Unit 1, and October 1, 2014, for BLN Unit 2.

On September 14, 2006, the NRC granted TVA its request to withdraw the CPs. Until the time of withdrawal, these facilities were in a deferred plant status as described in the Commission's Policy Statement on Deferred Plants, as published in the Federal Register on October 14, 1987 (52 FR 38077).

In a letter dated August 26, 2008, as supplemented on September 25, 2008, and on November 24, 2008, TVA has requested these CPs be reinstated.

The NRC staff has prepared an “Environmental Assessment and Finding of No Significant Impact,” which was published in the Federal Register on March 3, 2009 (74 FR 9308). Under Title 10, Section 51.32, “Finding of No Significant Impact,” of the Code of Federal Regulations (10 CFR 51.32), the Commission has determined that reinstating the CPs and placing the facility in a terminated plant status will not have a significant impact on the environment.

For further details on this action, see the TVA application dated August 26, 2008, as supplemented on September 25, 2008, and on November 24, 2008, and the NRC staff's letter and safety evaluation related to the requested reinstatement of the CPs dated March 9, 2009. Documents may be examined and/or copied for a fee at the NRC's Public Document Room located at One White Flint North, 11555 Rockville Pike (first floor), and they are accessible through the Agencywide Documents Access and Management System (ADAMS) Electronic Reading Room link at the NRC Web site, http://www.nrc.gov.

Any person adversely affected by this Order may request a hearing on this Order within 60 days of its issuance, and the request for a hearing is limited to whether good cause exists for the reinstatement of the CPs. The NRC will consider extending the time to answer or to request a hearing where good cause is shown. A request for an extension of time must be directed to the Director of the Office of Nuclear Reactor Regulation (NRR), U.S. Nuclear Regulatory Commission, and must include a statement of good cause for the extension. Requirements for hearing requests are found in 10 CFR 2.309, “Hearing requests, Petitions to Intervene, Requirements for Standing, and Contentions.”

All documents filed in NRC adjudicatory proceedings, including a request for hearing, any motion or other document filed in the proceeding prior to the submission of a request for hearing, and documents filed by interested governmental entities participating under 10 CFR 2.315(c), must be filed in accordance with the NRC's Electronic Maintenance and Submission of Information (E-Filing) rule, which the NRC promulgated on August 28, 2007 (72 FR 49139). The E-Filing process requires participants to submit and serve all adjudicatory documents over the Internet or, in some cases, to mail copies on electronic storage media. Participants may not submit paper copies of their filings unless they seek a waiver in accordance with the procedures described below.

To comply with the procedural requirements associated with E-Filing, at least 10 days prior to the filing deadline, the requestor should contact the Office of the Secretary by e-mail at hearing.docket@nrc.gov or by calling (301) 415-1677, to request (1) a digital identification (ID) certificate that allows the participant (or its counsel or representative) to digitally sign documents and access the E-Submittal server for any NRC proceeding in which it is participating or (2) the creation of an electronic docket for the proceeding (even in instances when the requestor (or its counsel or representative) already holds an NRC-issued digital ID certificate). Each requestor will need to download the Workplace Forms Viewer™ to access the Electronic Information Exchange (EIE) viewer, which is a component of the E-Filing system. The Workplace Forms Viewer™ is free and is available at http://www.nrc.gov/site-help/e-submittals/install-viewer.html. Information about how to apply for a digital ID certificate is also available on NRC's public Web site at http://www.nrc.gov/site-help/e-submittals/apply-certificates.html.

Once a requestor has obtained a digital ID certificate, had a docket created, and downloaded the EIE viewer, he or she can then submit a request for a hearing through EIE. Submissions should be in portable document format (PDF) in accordance with NRC guidance available on the NRC public Web site at http://www.nrc.gov/site-help/e-submittals.html. A filing is considered complete at the time the filer submits the document through EIE. To be timely, electronic filings must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the document on those participants separately. Therefore, applicants and other participants (or their counsel or representative) must apply for and receive a digital ID certificate before a hearing request is filed so that they may obtain access to the document via the E-Filing system.

A person filing electronically using the agency's adjudicatory e-filing system may seek assistance through the “Contact Us” link located on the NRC Web site at http://www.nrc.gov/site-help/e-submittals.html or by calling the NRC Electronic Filing Help Desk, which is available between 8 a.m. and 8 p.m., Eastern Time, Monday through Friday, excluding government holidays. The toll-free help line number is (866) 672-7640. A person filing electronically may also seek assistance by sending an e-mail to the NRC Electronic Filing Help Desk at MSHD.resource@nrc.gov. Participants who believe that they have good cause for not submitting documents electronically must file an exemption request, in accordance with 10 CFR 2.302(g), with their initial paper filing requesting authorization to continue to submit documents in paper format. Such filings must be submitted (1) by first-class mail addressed to the Office of the Secretary of the Commission, U.S. Nuclear Regulatory Commission, Washington, DC 20555-0001, Attention: Rulemaking and Adjudications Staff, or (2) by courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of the deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless they are excluded under an order of the Commission, the Atomic Safety and Licensing Board, or a presiding officer. Participants are requested not to include personal privacy information such as social security numbers, home addresses, or home telephone numbers in their filings. With respect to copyrighted works, except for limited excerpts that serve the purpose of the adjudicatory filings and would constitute a “fair use” application, participants are requested not to include copyrighted materials in their submission.

If a person requests a hearing, that person shall set forth with particularity the manner in which his or her interest is adversely affected by this Order and shall address the criteria set forth in 10 CFR 2.309(d).

The scope of this Order reinstating the CPs and any proceeding hereunder is limited to direct challenges to the permit holder's asserted reasons that show good cause justification for the reinstatement of the CPs.

Attorney for the Permit Holder: Maureen H. Dunn, Executive Vice President and General Counsel, Tennessee Valley Authority, 400 West Summit Hill Drive, Knoxville, TN 37902.

Accordingly, pursuant to Section 161b of the Atomic Energy Act of 1954, as amended, 42 U.S.C. Section 2201(b), and 10 CFR 50.55(b), it is hereby ordered that CP Nos. CPPR-122 and CPPR-123 for the construction of BLN Units 1 and 2, respectively, are reinstated, and the facility returned to a terminated plant status under Section III.B, “Terminated Plant,” of the Commission's Policy Statement on Deferred Plants dated October 14, 1987 (52 FR 38077). It is also ordered, in accordance with 10 CFR 50.55(b), that the expiration dates defining the latest construction completion dates for CP Nos. CPPR-122 and CPPR-123 are October 1, 2011, and October 1, 2014, respectively. Should TVA choose to pursue placement of the facility in a deferred plant status, it shall ensure to the satisfaction of the NRR Director that it has complied with the guidance and provisions under Section III.A, “Deferred Plant,” of the Commission's Policy Statement on Deferred Plants. When the results of its evaluation and inspection are satisfactory, the NRR Director may then authorize placement of the facility in a deferred plant status. Should TVA decide to reactivate construction, it shall comply with the provisions for notifying the NRR Director and shall provide the information described in the Commission's Policy Statement on Deferred Plants.

Dated at Rockville, Maryland, this 9th day of March 2009.
For the Nuclear Regulatory Commission.
Eric J. Leeds,
Director, Office of Nuclear Reactor Regulation.

[FR Doc. E9-5437 Filed 3-12-09; 8:45 am]

BILLING CODE 7590-01-P